DEPARTMENT OF TRANSPORTATION

[Docket No. DOT-OST-2004-16951]

Agency Request for Extension of a Previously Approved Information Collection: Aircraft Accident Liability Insurance

AGENCY: Office of the Secretary, DOT.

ACTION: Notice and request for comments.

SUMMARY: The Department of Transportation (DOT) invites public comment about our intention to request the Office of Management and Budget (OMB)'s approval to extend an information collection. The collection involves information from U.S. air carrier's policies of insurance for aircraft accident bodily injury and property damage liability and their filings of a two-page form. The information collected is necessary for DOT to determine whether the air carrier meets DOT criteria for insurance. We are required to publish this notice in the Federal Register by the Paperwork Reduction Act of 1995.

DATES: Written comments should be submitted by April 10, 2023.

ADDRESSES: You may submit comments [identified by Docket Number DOT-OST-2004-16951] by any of the following methods:

• Website: http://www.regulations.gov. Follow the instructions for submitting comments on the DOT electronic docket site.

• Fax: 1-202-493-2251.

• Mail or Hand Delivery: Docket Operations Office; U.S. Department of Transportation, 1200 New Jersey Avenue SE, W12-140, Washington, DC 20590, between 9 a.m. and 5 p.m., Monday through Friday, except Federal holidays.

FOR FURTHER INFORMATION CONTACT: Barbara Snoden, (202) 366-4834, Office of Aviation Analysis, Office of the Secretary, U.S. Department of Transportation, 1200 New Jersey Avenue SE, Washington, DC 20590.

SUPPLEMENTARY INFORMATION:

OMB Control Number: 2106-0030.

Title: Aircraft Accident Liability Insurance, 14 CFR part 205.

Type of Request: Extension of a previously approved collection.

Abstract: 14 CFR part 205 contains the minimum requirements for air carrier accident liability insurance to protect the public from losses, and directs that certificates evidencing appropriate coverage must be filed with the Department.

Respondents: U.S. and foreign air carriers.

Estimated Number of Respondents: 2,562.

Estimated Total Burden on Respondents: 894 hours.

Comments are invited on: You are asked to comment on any aspect of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. The agency will summarize and/or include your comments in the request for OMB's clearance of this information collection.

Authority: The Paperwork Reduction Act of 1995; 14 CFR part 205.

Issued in Washington, DC, on February 2, 2023.
Lauralyn Jean Remo Temprosa,
Associate Director, Air Carrier Fitness Division, Office of Aviation Analysis.

[FR Doc. 2023-02587 Filed 2-6-23; 8:45 am]

BILLING CODE 4910-9X-P